FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, D.C. 20573.

Non-Vessel Operating Common Carrier Ocean Transportation Intermediary Applicants:

Combitrans Consolidators, Inc., 1900 North Loop West, Suite 290, Houston, TX 77018, Officer: Luis A. Acosta, Executive Director, (Qualifying Individual)

SCL (CHI) Inc. d/b/a Sunice Cargo Logistics, 818 Foster Avenue, Bensenville, IL 60106, Officer: Yuk Lin Cheng Wolfe, President, (Qualifying Individual)

Non-Vessel Operating Common Carrier and Ocean Freight Forwarder Transportation Intermediary Applicants:

Billings Freight Systems, Inc. d/b/a BFS Global, 1414 Blairs Bridge Road, Lithia Springs, GA 30057, Officers: Michael L. Smith, Vice President, (Qualifying Individual), Irvin W. Albert, Chairman

OCC Maritime, Inc., 7950 N.W. 77th Street, Suite 3A, Miami, FL 33166, Officers: Rosa Maria Ferradaz, President, (Qualifying Individual), Carlos Vidal, Secretary

Ocean Freight Forwarders—Ocean Transportation Intermediary Applicants:

FAB Logistics Incorporated, 437 Rozzi Place, Suite #108, South San Francisco, CA 94080, Officers: Thomas H. Moon, President, (Qualifying Individual), Mouhamet Dia, Vice President

Dated: July 21, 2000.
Bryant L. VanBrakle,
Secretary.

[FR Doc. 00-18932 Filed 7-25-00; 8:45 am]

BILLING CODE 6730-01-P